FEDERAL COMMUNICATIONS COMMISSION

47 CFR Part 73

[DA 06-13; MB Docket No. 03-147, RM-10722; MB Docket No. 03-148, RM-10724; MB Docket No. 03-177, RM-10749; MB Docket No. 03-178; RM-10750; and MB Docket No. 03-180, RM 10753]

Radio Broadcasting Services; Anacoco, LA; Barstow, CA; Erie, PA, Greenfield, CA; and Newcastle, TX

AGENCY: Federal Communications Commission.

ACTION: Final rule.

SUMMARY: The Audio Division, at the request of Linda A. Davidson, allots Channel 267A at Barstow, California, as the community's third local FM transmission service. See 68 FR 42664, July 18, 2003. Channel 267A can be allotted to Barstow in compliance with the Commission's minimum distance separation requirements at city reference coordinates. The coordinates for Channel 267A at Barstow are 34-53-55 North Latitude and 117-01-19 West Longitude. Because Barstow is located within 320 kilometers (199 miles) of the U.S.-Mexican border, Mexican concurrence has been requested. However, concurrence of the Mexican government has not yet been received. If a construction permit for Channel 267A at Barstow is granted prior to the Commission's receipt of formal concurrence in the allotment by the Mexican Government, the construction permit will include the following condition: “Use of this allotment is subject to suspension, modification, or termination without right to hearing, if found by the Commission to be necessary in order to conform to the 1992 USA-Mexico FM Broadcast Agreement or if specifically objected to by Mexico's Secretaria de Communicaciones Y Transportes.” See Supplementary Information, infra.

DATES: Effective February 21, 2006. The window period for filing applications for these channels will not be opened at this time. Instead, the issue of opening filing windows for these allotments for auction will be addressed by the Commission in a subsequent order.

FOR FURTHER INFORMATION CONTACT: Sharon P. McDonald, Media Bureau, (202) 418-2180.

SUPPLEMENTARY INFORMATION: This is a synopsis of the Commission's Report and Order, MB Docket Nos. 03-147, 03-148, 03-177, 03-178, and 03-180, adopted January 4, 2006, and released January 6, 2006. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see U.S.C. 801(a)(1)(A).

The Audio Division, at the request of Charles Crawford, allots Channel 263A at Newcastle, Texas, as the community first local aural transmission service. See 68 FR 42664, July 18, 2003. Channel 263A can be allotted to Newcastle in compliance with the Commission's minimum distance separation requirements with a site restriction of 3.6 kilometers (2.2 miles) northeast to avoid a short-spacing to the licensed site of Station KHYS(FM), Channel 264C1 at Abilene, Texas.

The Audio Division, at the request of Charles Crawford allots Channel 276C3 at Anacoco, Louisiana, as the community's first local aural transmission service. See 68 FR 47284, August 8, 2003. Channel 276C3 can be allotted to Anacoco in compliance with the Commission's minimum distance separation requirements with a site restriction of 13 kilometers (8.1 miles) northwest to avoid a short-spacing to the licensed site of Station KAJN-FM, Channel 275C, Crowley, Louisiana.

The Audio Division, at the request of Dana J. Puopolo allots Channel 240A at Erie, Pennsylvania, as the community's fifth local FM transmission service. See 68 FR 47284, August 8, 2003. Channel 240A can be allotted to Erie in compliance with the Commission's minimum distance separation requirements with a site restriction of 8.8 kilometers (5.5 miles) northeast to avoid a short-spacing to the licensed site of Station WAKZ(FM), Channel 240A, Sharpsville, Pennsylvania. Canadian concurrence as a specially-negotiated, short-spaced allotment has been received because Erie is located within 320 kilometers (200 miles) of the U.S.-Canadian border, and the allotment is short-spaced to Station CFPL-FM, Channel 240C1, London, Ontario.

The Audio Division, at the request of Daniel R. Freely, allots Channel 254A at Greenfield, California, as the community's third local FM transmission service. See 68 FR 47284, August 8, 2003. Channel 254A can be allotted to Greenfield in compliance with the Commission's minimum distance separation requirements at city reference coordinates. The coordinates for Channel 254A at Greenfield are 36-19-23 North Latitude and 121-14-41 West Longitude.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under California, is amended by adding Channel 267A at Barstow; by removing Channel 300B, and adding Channel 254A and Channel 300B1 at Greenfield.

3. Section 73.202(b), the Table of FM Allotments under Louisiana, is amended by adding Anacoco, Channel 276C3.

4. Section 73.202(b), the Table of FM Allotments under Pennsylvania, is amended by adding Channel 240A at Erie.

5. Section 73.202(b), the Table of FM Allotments under Texas, is amended by adding Newcastle, Channel 263A.

Federal Communications Commission.
John A. Karousos,
Assistant Chief, Audio Division, Media Bureau.

[FR Doc. 06-794 Filed 1-26-06; 8:45 am]

BILLING CODE 6712-01-P